DEPARTMENT OF COMMERCE

Bureau of Industry and Security

In the Matter of: Orville L. Parker, Jr., 2647 W. Walton Street, Chicago, IL 60622, Respondent; Order Relating to Orville L. Parker, Jr.

The Bureau of Industry and Security, U.S. Department of Commerce (“BIS”), has notified Orville L. Parker, Jr., of Chicago, Illinois (“Parker”), of its intention to initiate an administrative proceeding against Parker pursuant to Section 766.3 of the Export Administration Regulations (the “Regulations”),¹ and Section 13(c) of the Export Administration Act of 1979, as amended (the “Act”),² through the issuance of a Proposed Charging Letter to Parker that alleges that Parker committed two violations of the Regulations. Specifically, the charges are:

¹ The Regulations are currently codified in the Code of Federal Regulations at 15 CFR parts 730-774 (2013). The charged violations occurred in 2008. The Regulations governing the violations at issue are found in the 2008 version of the Code of Federal Regulations (15 CFR parts 730-774). The 2013 Regulations set forth the procedures that apply to this matter.

² 50 U.S.C. app. §§ 2401-2420 (2000). Since August 21, 2001, the Act has been in lapse and the President, through Executive Order 13222 of August 17, 2001 (3 CFR, 2001 Comp. 783 (2002)), which has been extended by successive Presidential Notices, the most recent being that of August 15, 2012 (77 FR 49699 (Aug. 16, 2012)), has continued the Regulations in effect under the International Emergency Economic Powers Act (50 U.S.C. 1701, et seq.) (2006 & Supp. IV 2010).

Charge 1 15 CFR 764.2(a): Engaging in Prohibited Conduct by Exporting a Thermal Imaging Camera Without the Required License

On or about February 29, 2008, Parker engaged in conduct prohibited by the Regulations by exporting a thermal imaging camera, an item subject to the Regulations, classified under Export Control Classification Number (“ECCN”) 6A003.b.4, controlled for Regional Stability reasons, and valued at approximately $4,050, from the United States to Germany without the Department of Commerce license required by Section 742.6(a)(1) of the Regulations. Parker stole the thermal imaging camera from his then-employer and subsequently advertised and then sold the item on eBay. In order to avoid detection by law enforcement, Parker intentionally used someone else's email address when he listed the item for sale on eBay while also falsely listing that the thermal imaging camera was physically located in Orlando, Florida. To further conceal his activities, Parker intentionally undervalued the thermal imaging camera at the time of export to avoid filing a Shipper's Export Declaration with the United States Government. In so doing, Parker committed one violation of Section 764.2(a) of the Regulations.

Charge 2 15 CFR 764.2(a): Engaging in Prohibited Conduct by Failing To File a Shipper's Export Declaration or Automated Export Systems Record

On or about February 29, 2008, in connection with the unlicensed export transaction described in Charge 1 above, Parker engaged in conduct prohibited by the Regulations when he failed to file a Shipper's Export Declaration (“SED”) or Automated Export System (“AES”) record with the U.S. Government. Pursuant to Section 758.1(b)(3) of the Regulations, an SED or AES record must be filed with the U.S. Government for all exports of commodities subject to the Regulations when the value of the commodity is over $2,500. Additionally, Section 758.1(b)(2) requires the filing of a SED or AES record for all exports subject to the Regulations that require submission of a license application, regardless of value or destination. Based on his experience filling out shipping air waybills Parker was aware that an SED or AES record was required for exports valued at over $2,500. Parker also knew the thermal imaging camera, which he had previously stolen from his then-employer, was valued at approximately $4,050. In order to avoid detection by law enforcement Parker intentionally undervalued the item to $2,400 in an attempt to avoid the SED/AES record filing requirement.

By failing to file the required SED or AES record, Parker committed one violation of Section 764.2(a) of the Regulations.

Whereas, BIS and Parker have entered into a Settlement Agreement pursuant to Section 766.18(a) of the Regulations, whereby they agreed to settle this matter in accordance with the terms and conditions set forth therein; and

Whereas, I have approved of the terms of such Settlement Agreement;

It is therefore ordered:

First, that for a period of ten (10) years from the date of this Order, Orville L. Parker, Jr., with a last known address of 2647 W. Walton Street, Chicago, IL 60622, and when acting for or on his behalf, his successors, assigns, representatives, agents, or employees (hereinafter collectively referred to as “Denied Person”), may not, directly or indirectly, participate in any way in any transaction involving any commodity, software or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the Regulations.

Second, that no person may, directly or indirectly, do any of the following:

A. Export or reexport to or on behalf of the Denied Person any item subject to the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

Third, that, after notice and opportunity for comment as provided in Section 766.23 of the Regulations, any person, firm, corporation, or business organization related to the Denied Person by affiliation, ownership, control, or position of responsibility in the conduct of trade or related services may also be made subject to the provisions of the Order.

Fourth, that the Proposed Charging Letter, the Settlement Agreement, and this Order shall be made available to the public.

Fifth, that this Order shall be served on Parker, and shall be published in the Federal Register.

This Order, which constitutes the final agency action in this matter, is effective immediately.

Issued: July 9, 2013.
David W. Mills,
Assistant Secretary of Commerce for Export Enforcement.

[FR Doc. 2013-17824 Filed 7-23-13; 8:45 am]

BILLING CODE P